DEPARTMENT OF VETERANS AFFAIRS

Voluntary Service National Advisory Committee; Notice of Meeting

The Department of Veterans Affairs (VA) gives notice under Public Law 92-463 (Federal Advisory Committee Act) that the Executive Committee of the Department of Veterans Affairs Voluntary Service (VAVS) National Advisory Committee (NAC) will meet October 13-14, 2011, at the Charleston Marriott, 170 Lockwood Boulevard, Charleston, South Carolina. The sessions will begin at 8 a.m. each day and end at 4:30 p.m. on October 13, and at noon on October 14, 2011. The meeting is open to the public.

The Committee, comprised of 55 national voluntary organizations, advises the Secretary, through the Under Secretary for Health, on the coordination and promotion of volunteer activities within VA health care facilities. The Executive Committee consists of 20 representatives from the NAC member organizations.

On October 13, agenda topics will include: NAC goals and objectives; review of minutes from the April 2011 NAC annual meeting; VAVS update on the Voluntary Service program's activities; Parke Board update; evaluations of the 2011 NAC annual meeting; and plans for 2012 NAC annual meeting (to include workshops and plenary sessions).

On October 14, agenda topics will include: Subcommittee reports; review of standard operating procedure revisions; 2013 NAC annual meeting plans; and any new business.

No time will be allocated at this meeting for receiving oral presentations from the public. However, the public may submit written statements for the Committee's review to Ms. Laura Balun, Designated Federal Officer, Voluntary Service Office (10B2A), Department of Veterans Affairs, 810 Vermont Avenue, NW., Washington, DC 20420, or e-mail at Laura.Balun@va.gov. Any member of the public wishing to attend the meeting or seeking additional information should contact Ms. Balun at (202) 461-7300.

Dated: September 19, 2011.
By Direction of the Secretary.
Vivian Drake,
Acting Committee Management Officer.

[FR Doc. 2011-24415 Filed 9-22-11; 8:45 am]

BILLING CODE P